DEPARTMENT OF TRANSPORTATION

Federal Aviation Administration

Notice of Intent To Rule on a Request for a Change in Use From Aeronautical to Non-Aeronautical To Provide for the Use of an Existing Facility for Manufacturing Purposes, at Elmira/Corning Regional Airport, Horseheads, NY

AGENCY: Federal Aviation Administration (FAA), DOT.

ACTION: Notice and request for comment.

SUMMARY: The FAA proposes to rule and invite public comment for a change in use from aeronautical to non-aeronautical to provide for the use of an existing facility for manufacturing purposes, at Elmira/Corning Regional Airport, Horseheads, NY.

DATES: Comments must be received on or before August 31, 2015.

ADDRESSES: Comments on this application may be mailed or delivered to the following address: Ann Crook, Director of Aviation, Elmira/Corning Regional Airport, 276 Sing Sing Road, Suite 1, Horseheads, NY 14845, (607) 739-5621 and at the FAA New York Airports District Office: Evelyn Martinez, Manager, New York Airports District Office, 1 Aviation Plaza, Jamaica, NY 11434, (718) 995-5771.

FOR FURTHER INFORMATION CONTACT: Ryan Allen, Community Planner, New York Airports District Office, location listed above. (718) 995-5677.

The request for a change in use from aeronautical to non-aeronautical to provide for the use of an existing facility for manufacturing purposes may be reviewed in person at the New York Airports District Office located at 159-30 Rockaway Blvd., Suite 111, Jamaica, NY 11434.

SUPPLEMENTARY INFORMATION: The FAA invites public comment for a change in use from aeronautical to non-aeronautical to provide for the use of an existing facility for manufacturing purposes, at Elmira/Corning Regional Airport under the provisions of 49 U.S.C. 47125(a). Based on a full review, the FAA determined that the request for a change in use from aeronautical to non-aeronautical to provide for the use of an existing facility for manufacturing purposes, at Elmira/Corning Regional Airport, Horseheads, NY., met the procedural requirements.

The Following Is a Brief Overview of the Request

The airport sponsor is requesting a change in use from aeronautical to non-aeronautical for a 10.27 acre site located along Kahler Road, including an existing 96,000 square foot manufacturing facility, 5,000 square foot storage hangar, and adjoining 187,500 square foot parking lot with capacity for 332 parking stalls. In addition, the proposal includes a 6,400 square foot expansion to the existing facility to support administrative and engineering offices. The site would be utilized for glass manufacturing operations by a privately owned company. There is currently no short or long term aeronautical demand for the site, or interest from an aeronautical tenant to occupy the space. The Airport will structure a land lease with the prospective tenant based on fair market value, along with the fee simple sale of the buildings. All proceeds generated from the lease agreement and fee simple sale must be used exclusively by the airport in accordance with 49 U.S.C. 47107(b) and the FAA's policy on revenue use.

Any person may inspect the request by appointment at the FAA office address listed above. Interested persons are invited to comment on the proposed change of use from aeronautical to non-aeronautical. All comments will be considered by the FAA to the extent practicable.

Issued in Jamaica, New York, July 27, 2015.
Evelyn Martinez,
Manager, New York Airports District Office.

[FR Doc. 2015-18821 Filed 7-30-15; 8:45 am]

BILLING CODE 4910-13-P